SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in DATES.

DATES: June 1-30, 2019.

ADDRESSES: Susquehanna River Basin Commission, 4423 North Front Street, Harrisburg, PA 17110-1788.

FOR FURTHER INFORMATION CONTACT: Jason E. Oyler, General Counsel and Secretary, telephone: (717) 238-0423, ext. 1312; fax: (717) 238-2436; email: joyler@srbc.net. Regular mail inquiries may be sent to the above address. See also Commission website at www.srbc.net.

SUPPLEMENTARY INFORMATION: This notice lists the projects, described below, being rescinded for the consumptive use of water pursuant to the Commission's approval by rule process set forth in 18 CFR 806.22(f) for the time period specified above:

Rescinded ABRs Issued

1. SWEPI LP; Pad ID: Allen 620; ABR-20100623.R1; Charleston Township, Tioga County, Pa.; Rescinded Date: June 10, 2019.

2. SWEPI LP; Pad ID: Baker 1105; ABR-201101011.R1; Deerfield Township, Tioga County, Pa.; Rescinded Date: June 14, 2019.

3. SWEPI LP; Pad ID: Davis 841; ABR-201505002; Chatham Township, Tioga County, Pa.; Rescinded Date: June 19, 2019.

4. SWEPI LP; Pad ID: Dietz 490; ABR-201010030.R1; Richmond Township, Tioga County, Pa.; Rescinded Date: June 18, 2019.

5. SWEPI LP; Pad ID: Harman 565; ABR-201010028.R1; Charleston Township, Tioga County, Pa.; Rescinded Date: June 18, 2019.

6. SWEPI LP; Pad ID: Williams 889; ABR-201009051.R1; Deerfield Township, Tioga County, Pa.; Rescinded Date: June 10, 2019.

Authority: Pub. L. 91-575, 84 Stat. 1509 et seq., 18 CFR parts 806, 807, and 808.

Dated: August 1, 2019.
Jason E. Oyler,
General Counsel and Secretary to the Commission.

[FR Doc. 2019-16818 Filed 8-6-19; 8:45 am]

BILLING CODE 7040-01-P